LEGAL SERVICES CORPORATION

Request for Comments—LSC Budget Request for FY 2014

AGENCY: Legal Services Corporation.

ACTION: Request for Comments—LSC Budget Request for FY 2014.

SUMMARY: The Legal Services Corporation is beginning the process of developing its FY 2014 budget request to Congress and is soliciting suggestions as to what the request should be.

DATES: Written comments will be accepted until 12 noon, Eastern Daylight Time, on June 7, 2012.

ADDRESSES: Written comments may be submitted by mail, fax or email to David L. Richardson, Treasurer, Legal Services Corporation, 3333 K Street NW., Washington DC 20007; 202-295-1510 (phone); 202-337-6834 (fax); david.richardson@lsc.gov.

SUPPLEMENTARY INFORMATION: The mission of the Legal Services Corporation (“LSC” or “Corporation”) is to promote equal access to justice in our Nation and to provide for high-quality civil legal assistance to low-income persons. LSC submits an annual budget request directly to Congress and receives an annual direct appropriation to carry out its mission. For the current fiscal year, FY 2012, LSC received an appropriation of $348,000,000, of which $322,400,000 is for basic field programs and required independent audits; $4,200,000 is for the Office of Inspector General; $17,000,000 is for management and grants oversight; $3,400,000 is for technology initiative grants; and $1,000,000 is for loan repayment assistance. Public Law 112-55, 125 Stat. 629 (Nov. 18, 2011).

As part of its annual budget and appropriation process, LSC notifies the Office of Management and Budget (“OMB”) in September of each year as to what the LSC budget request to Congress will be for the next fiscal year. Accordingly, LSC is currently in the process of formulating its FY 2014 budget request. The Finance Committee of the LSC Board of Directors will meet on June 11, 2012, to hear testimony and commence deliberations on what to recommend to the full Board for adoption as the Corporation's FY 2014 budget request.

LSC invites public comment on what its FY 2014 budget request should be. Interested parties may submit comments to LSC by 12 noon, Eastern Daylight Time, on Thursday, June 7, 2012. More information about LSC may be found at www.lsc.gov.

Dated: May 7, 2012.
Victor M. Fortuno,
Vice President & General Counsel.

[FR Doc. 2012-11374 Filed 5-10-12; 8:45 am]

BILLING CODE 7050-01-P